DEPARTMENT OF DEFENSE

Department of the Air Force

Air Force Scientific Advisory Board; Notice of Federal Advisory Committee Meeting

AGENCY: Air Force Scientific Advisory Board, Department of the Air Force, Department of Defense.

ACTION: Notice of federal advisory committee meeting.

SUMMARY: The Department of Defense (DoD) is publishing this notice to announce that the following Federal Advisory Committee meeting of the U.S. Air Force Scientific Advisory Board will take place.

DATES: Open to the public virtually. September 15, 2020 from 3:00 p.m. to 4:10 p.m. EDT.

ADDRESSES: The virtual meeting can be accessed at the following link: https://us02web.zoom.us/j/85940304005?pwd=SHR2cDg1SlZQWWtlVjNGKzVUUGdNUT09.

Meeting ID: 859 4030 4005

Passcode: 421833

Find your local number: https://us02web.zoom.us/u/kegecLgh9I.

FOR FURTHER INFORMATION CONTACT: Lt Col Elizabeth Sorrells, (321) 480-1009 (Voice), elizabeth.d.sorrells.mil@mail.mil (Email). Mailing address is 1500 West Perimeter Road, Ste. #3300, Joint Base Andrews, MD 20762. Website: https://www.scientificadvisoryboard.af.mil/. The most up-to-date changes to the meeting agenda can be found on the website.

SUPPLEMENTARY INFORMATION: This meeting is being held under the provisions of the Federal Advisory Committee Act (FACA) of 1972 (5 U.S.C., Appendix, as amended), the Government in the Sunshine Act of 1976 (5 U.S.C. 552b, as amended), and 41 CFR 102-3.140 and 102-3.150. Due to circumstances beyond the control of the Department of Defense and the Designated Federal Officer for the U.S. Air Force Scientific Advisory Board, the U.S. Air Force Scientific Advisory Board was unable to provide public notification required by 41 CFR 102-3.150(a) concerning its September 15, 2020 meeting. Accordingly, the Advisory Committee Management Officer for the Department of Defense, pursuant to 41 CFR 102-3.150(b), waives the 15-calendar day notification requirement.

Purpose of the Meeting: The purpose of this Air Force Scientific Advisory Board meeting is for the Parent Board to receive the outbrief of the FY20 SecAF-directed study on Future Air Force Vanguard Selection and Management Processes (FVS). This meeting will be open to the public but held by virtual means as noted above.

Agenda: [All times are Eastern Daylight Time] 3:00 p.m. to 3:00 p.m.: Welcome Remarks 3:05 p.m.-4:05 p.m.: Future Air Force Vanguard Selection and Management Processes—Outbrief and Deliberation 4:05 p.m.-4:10 p.m.: Vote and Closing Remarks.

Written Statements: Any member of the public wishing to provide input to the United States Air Force Scientific Advisory Board should submit a written statement in accordance with 41 CFR 102-3.140(c) and section 10(a)(3) of the Federal Advisory Committee Act and the procedures described in this paragraph. Written statements can be submitted to the Designated Federal Officer at the address detailed above at any time. Statements being submitted in response to the agenda announced in this notice must be received by the Designated Federal Officer at the address listed below at least five working days prior to the meeting date. The Designated Federal Officer will review all timely submissions with the United States Air Force Scientific Advisory Board Chairperson and ensure they are provided to members of the United States Air Force Scientific Advisory Board before the meeting that is the subject of this notice. Written statements received after this date may not be considered by the Scientific Advisory Board until the next scheduled meeting.

Adriane Paris,
Acting Air Force Federal Register Liaison Officer.

[FR Doc. 2020-19902 Filed 9-8-20; 8:45 am]

BILLING CODE 5001-10-P